DEPARTMENT OF TRANSPORTATION

National Highway Traffic Safety Administration

Denial of a Petition for a Defect Investigation and for Rulemaking, DP00-005

AGENCY: National Highway Traffic Safety Administration (NHTSA), Department of Transportation.

ACTION: Denial of petition for a defect investigation and for rulemaking.

SUMMARY: This notice sets forth the reasons for the denial of a petition submitted to NHTSA under 49 U.S.C. 30162, requesting that the agency investigate an alleged safety-related defect in certain Ford pickup trucks and to begin a rulemaking proceeding. The petition is hereinafter identified as DP00-005.

FOR FURTHER INFORMATION CONTACT: For defects issues, Peter C. Ong, Office of Defects Investigation, NHTSA, 400 Seventh Street, SW., Washington, DC 20590. Telephone: (202) 366-0583. For rulemaking issues, Michael Huntley, Office of Safety Performance Standards, Telephone: (202) 366-0029.

SUPPLEMENTARY INFORMATION: Dr. Carl E. Nash (petitioner) submitted a petition to NHTSA by letter dated September 1, 2000, requesting, among other things, that a safety-related defect investigation be initiated with respect to the interaction of a vehicle seat belt in the model year (MY) 1997 Ford Ranger pickup truck and certain child safety seats (CSS). Specifically, the petitioner alleges that the 2-point, manually-adjusting lap belt design located in the center seating position of the MY 1997 Ford Ranger is defective because it does not securely hold certain forward-facing CSSs, such as the 1997 Cosco Touriva. Since both the MY 1996 and 1997 Ford Rangers have the same lap belt design in the center seating position, they will be the subject vehicles in this phase of the analysis. Additionally, the petitioner requests that a rulemaking be considered to prohibit this type of lap belt assembly from being used in any passenger vehicles in the future.

A review of the agency's data files, including information reported to the DOT Auto Safety Hotline, does not indicate any complaints about the lap belt for the center seat on the subject vehicles, including when that belt is used with a CSS. Also, a review of the data for complaints about the Cosco Touriva CSSs showed no complaints referring to CSS attachment or installation problems when used in the subject vehicles, or in any other vehicles.

The subject vehicles have a 3-point combination lap and shoulder belt assembly and an air bags at the driver and outboard passenger seating positions, and a manually-adjusting lap belt assembly at the center seating position. The outboard passenger seat belt assembly has a dual locking mode belt retractor to help maintain belt tension for both the occupants and a CSS. The lap belt assembly for the center seating position has a built-in friction locking bar inside the latch plate assembly to keep the belt tight, but no retractor.

Instructions are given in the subject vehicles' owner's guides,¹ describing how to install a CSS in a seating position with a combination lap and shoulder belt, which is the outboard seating position. According to those instructions, the seat belt assembly is to be engaged in the automatic locking mode to ensure that the seat belt remains tight when used to restrain a CSS. The instructions also recommend the use of a top tether strap with forward-facing CSSs. The guide also states that when using a rear-facing infant CSS, the passenger air bag must be turned off. No instructions are given for the installation of a CSS in the center seating position, although there is no specific direction not to do so.

¹ E.g., MY 1997 Ford Ranger Owner's Guide, First Printing, Pages 101-145 and MY 1996 Ford Ranger Owner's Guide, First Printing, Pages 9-40.

ODI personnel easily installed and secured a Cosco Touriva CSS in the outboard passenger seating position of a subject vehicle following the instructions provided in the vehicle's owner's guide. It was difficult to install the Touriva CSS in the center seating position because the base of the CSS was wider than the distance between the seat belt latch plate assembly exit point and the buckle assembly exit point in the bench seat. ODI also observed that when the latch plate end was inserted into the buckle, the buckle portion of the lap belt assembly protruded 5-6 inches out from the seat and was about the same height as the height of the slot in the CSS for the seat belt to pass through.

ODI personnel then checked the CSS for tightness as prescribed in the Touriva instruction manual: ² “Tilt and push the child restraint forward and to both sides.” The CSS moved and loosened from the lap belt when it was tilted in the side to side direction. It appeared that the belt webbing could form a 90° angle to the latch plate assembly and prevent the engagement of the friction locking bar in the belt assembly of the vehicle. This inability of the Touriva CSS to remain tightly secured on the center seat was evident.

² Cosco Touriva One-Guard models 02-014/02-015, Instruction Manual for a MY 1997 CSS, Page 7, Sections “Do You Have a Manual Belt?”

ODI personnel also installed another forward-facing CSS, the Gerry One-Click Model 691, in a subject vehicle. Again, ODI personnel easily installed and secured the One-Click CSS in the outboard passenger seating position. Due to its narrower base, it was also easier to install and secure in the center seating position than the Cosco Touriva CSS. In the final check for proper fit/tightness, the One-Click was “rocked from side to side” as instructed in the One-Click instruction manual,³ and it remained tight and secured to the center seat.

³ Evenflo/Gerry One-Click Model 691 CSS Owner's Manual, Page 11, Section “Manually Adjusted Belt and Locking Latch Plates.”

It was noted that even if the Cosco Touriva CSS could have been securely attached at the center seating position, its left side intruded into the driver's seating area, and therefore could interfere with the driver's ability to operate the vehicle. In addition, the driver would not be able to readily operate the floor-mounted shift lever because it would be blocked by the left-front corner of the CSS (approximately 60% of the subject vehicles were sold with a floor-mounted shift lever).

Proper interaction and fit between a vehicle and a CSS are very important. NHTSA's child passenger safety brochures advise parents and caregivers that “Not all child seats can be installed in all vehicles and all seating positions. With numerous models of child seats, almost 300 models of passenger vehicles, and the wide range of belt systems available today, correctly installing a child seat can be challenging.” These brochures also caution owners that “Vehicle seats and seat belts are built for the comfort of adults, not to secure a child car seat correctly. Some child car seats cannot be used safely in certain seating positions.” ⁴ It is, therefore, imperative that consumers check their vehicle owner's manual and child restraint instruction manual to determine where to properly place and how to properly secure child safety seats.

⁴ NHTSA Publications DOT HS 809 011, “Buying a Safer Car for Child Passengers 2000,” and DOT HS 808 302, “Are You Using It Right?”

NHTSA has published numerous other brochures on how to safely transport children. They describe other important vehicle-to-CSS interface issues and factors that need to be considered by parents and caregivers. The brochures are available on our NHTSA website ⁵ or can be obtained by contacting the NHTSA Hotline.⁶

⁵ NHTSA Website at http://www.nhtsa.dot.gov/people/injury/childps/.

⁶ NHTSA Hotline at 1-888-DASH-2-DOT (1-888-327-4236).

NHTSA agrees that the design of the lap belt assembly for the center seating position in the subject vehicles may make it difficult for CSSs similar to the Cosco Touriva to be installed securely and that children riding in an inadequately-secured CSS might not be properly protected in the event of a crash. However, these CSSs can be installed securely in the outboard passenger seating position as described in the vehicle owner's manual. (We note that the subject vehicles, when equipped with the optional passenger air bag, are equipped with switches that allow the driver to temporarily disable the passenger air bag when a child is present to assure that a deploying air bag will not injure the child.) In addition, there have been no consumer complaints regarding this alleged problem in the subject vehicles. For these reasons, NHTSA has no basis on which to conclude that this condition constitutes a safety-related defect. It is unlikely that NHTSA would issue an order concerning the notification and remedy of a safety-related defect at the conclusion of an investigation into this matter.

With respect to the petitioner's request that a rulemaking be commenced to consider prohibiting this type of lap belt assembly from being used in any passenger motor vehicles in the future due to its inability to securely hold certain models/sizes of CSSs, NHTSA has recently amended Federal Motor Vehicle Safety Standard (FMVSS) No. 213 and adopted a new FMVSS No. 225 to establish new anchorage and mounting requirements for vehicles and CSSs. FMVSS No. 225 was adopted in March 1999 and, when fully effective, will require passenger cars, SUVs, light-duty trucks, buses, and vans to be equipped with easy-to-use anchorage systems consisting of an upper tether anchorage and two lower anchorages designed to be used exclusively for securing CSSs. By requiring an independent child restraint anchorage system, this standard will significantly improve the compatibility of vehicle seats and CSSs. As of September 1, 2000, 80% of new vehicles were required to be equipped with the user-friendly upper tether anchorages and by September 1, 2001, 80% of new vehicles will also be equipped with the lower restraint anchorages. All passenger cars manufactured after September 1, 2002, will be equipped with both the upper tether and lower restraint anchorages. All CSSs manufactured after September 1, 2002 will be required to have hardware to attach to these standardized anchorages, and will also be required to be attachable to the vehicle via the vehicle's seat belt system, as is currently done, since the pre-existing fleet will not have the new anchorages. We note, however, that FMVSS No. 225 only requires the new, standardized anchorages at certain seating positions, which vary depending on the type of vehicle, so it is crucial that consumers consult their vehicle owner's manual and their child restraint instruction manual to determine where and how to properly install their CSS. In view of these recent amendments, the compatibility problems noted by the petitioner will not occur in future vehicles, so there is no need for further regulatory action.

For the foregoing reasons, and in view of the need to allocate and prioritize NHTSA's limited resources to best accomplish the agency's safety mission, the petition for a defect investigation and for rulemaking is denied.

Authority: 49 U.S.C. 30162(d); delegations of authority at CFR 1.50 and 501.8.

Issued on: May 8, 2001.
Stephen R. Kratzke,
Associate Administrator for Safety Performance Standards.
Kenneth N. Weinstein,
Associate Administrator for Safety Assurance.

[FR Doc. 01-12193 Filed 5-14-01; 8:45 am]

BILLING CODE 4910-59-P